DEPARTMENT OF COMMERCE

International Trade Administration

[A-475-811]

Grain-Oriented Electrical Steel From Italy: Rescission of Antidumping Administrative Review

AGENCY: Import Administration, International Trade Administration, Department of Commerce.

ACTION: Notice of rescission of antidumping duty administrative review.

SUMMARY: On October 2, 2000, the Department published in the Federal Register (65 FR 58733) a notice of initiation of an administrative review of the antidumping duty order on Grain-Oriented Electrical Steel from Italy. This review was requested by the petitioners, and covered the period August 1, 1998, through July 31, 1999. The Department is now rescinding this review after receiving a withdrawal of its request for the review from the petitioners on March 29, 2001.

EFFECTIVE DATE: April 20, 2001.

FOR FURTHER INFORMATION CONTACT: Helen Kramer or Steve Bezirganian, Import Administration, International Trade Administration, U.S. Department of Commerce, 14th Street and Constitution Avenue, NW., Washington, DC 20230; telephone: (202) 482-0405 or (202) 482-1131, respectively.

SUPPLEMENTARY INFORMATION:

The Applicable Statute and Regulations

Unless otherwise indicated, all citations to the Tariff Act of 1930, as amended (the Tariff Act), are references to the provisions effective January 1, 1995, the effective date of the amendments made to the Tariff Act of 1930, as amended, by the Uruguay Round Agreements Act. In addition, unless otherwise indicated, all citations to the Department of Commerce (the Department) regulations are to the regulations at 19 CFR part 351 (April 2000).

Scope of Review

The product covered by this review is grain-oriented silicon electrical steel, which is a flat-rolled alloy steel product containing by weight at least 0.6 percent of silicon, not more than 0.08 percent of carbon, not more than 1.0 percent of aluminum, and no other element in an amount that would give the steel the characteristics of another alloy steel, of a thickness of no more than 0.560 millimeters, in coils of any width, or in straight lengths which are of a width measuring at least 10 times the thickness, as currently classifiable in the Harmonized Tariff Schedule of the United States (HTS) under item numbers 7225.30.7000, 7225.40.7000, 7225.50.8085, 7225.99.0090, 7226.11.1000, 7226.11.9030, 7226.11.9060, 7226.91.7000, 7226.91.8000, 7226.92.5000, 7226.92.7050, 7226.92.8050, 7226.99.0000, 7228.30.8050, and 7229.90.1000. Although the HTS subheadings are provided for convenience and customs purposes, our written descriptions of the scope of these proceedings are dispositive.

SUPPLEMENTARY INFORMATION: On August 31, 2000, Allegheny Ludlum and AK Steel Corporation (formerly Armco, Inc.), collectively “petitioners,” requested an administrative review of the antidumping duty order on grain-oriented electrical steel from Italy. We initiated this review on October 2, 2000 (65 FR 58733). On March 29, 2001, the petitioners filed a letter with the Department withdrawing their request for the Department to conduct an administrative review. Ordinarily, parties have 90 days from the publication of the notice of initiation of review in which to withdraw a request for review. See CFR 351.213(d)(1). We did not receive petitioners' withdrawal request until after the 90-day period had elapsed. However, the review has not progressed substantially and there would be no undo burden on the parties or the Department if the Department were to rescind the review on the basis of this request. Therefore, the Department has determined that it would be reasonable to grant the withdrawal at this time.

This notice is published pursuant to section 751 of the Tariff Act of 1930, as amended, (19 U.S.C. 1675 (1999)), and section 351.213 of the Department's regulations (19 CFR 351.213 (2000)).

Dated: April 16, 2001.
Joseph A. Spetrini,
Deputy Assistant Secretary, AD/CVD Enforcement Group III.

[FR Doc. 01-9857 Filed 4-19-01; 8:45 am]

BILLING CODE 3510-DS-P